FEDERAL COMMUNICATIONS COMMISSION

47 CFR Part 73

[DA 00-1688; MM Docket No. 98-87; RM-9278, RM-9608]

Radio Broadcasting Services; Kaycee and Basin, WY

AGENCY: Federal Communications Commission.

ACTION: Final rule.

SUMMARY: The Commission, at the request of Mountain Tower Broadcasting, allots Channel 222C1 to Kaycee, Wyoming as the community's first local aural service and, at the request of Mount Rushmore Broadcasting, Inc., allots Channel 277C2 to Basin, Wyoming as the community's first local aural service. See 63 FR 34619 (June 25, 1998). Channel 222C1 can be allotted at Kaycee in compliance with the Commission's minimum distance separation requirements, with respect to domestic allotments, with a site restriction of 38.9 kilometers (24.2 miles) southwest of the community at coordinates 43-27-55 and 106-58-40. Channel 277C2 can be allotted at Basin in compliance with the Commission's minimum distance separation requirements, with respect to domestic allotments without a site restriction at coordinates 44-22-42 and 108-02-12. Filing windows for Channels 222C1 at Kaycee and 277C2 at Basin will not be opened at this time. Instead, the issue of opening a filing window for each channel will be addressed by the Commission in a subsequent Order.

DATES: Effective September 11, 2000.

ADDRESSES: Federal Communications Commission, Washington, DC 20554.

FOR FURTHER INFORMATION CONTACT: Victoria M. McCauley, Mass Media Bureau, (202) 418-2180.

SUPPLEMENTARY INFORMATION: This is a synopsis of the Commission's Report and Order, MM Docket No. 98-87, adopted July 26, 2000 and released July 28, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of title 47 of the Code of Federal Regulations is amended as follows:

PART 73—[AMENDED]

1. The authority citation for part 73 continues to read as follows:

Authority: 47 U.S.C. 154, 303, 334, and 336.

2. Section 73.202(b), the Table of FM Allotments under Wyoming, is amended by adding Kaycee, Channel 222C1 and Basin, Channel 277C2.

Federal Communications Commission.
John A. Karousos,
Chief, Allocations Branch, Policy and Rules Division, Mass Media Bureau.

[FR Doc. 00-20937 Filed 8-16-00; 8:45 am]

BILLING CODE 6712-01-P